ENVIRONMENTAL PROTECTION AGENCY

[ER-FRL-8999-7)

Environmental Impacts Statements; Notice of Availability

Responsible Agency: Office of Federal Activities, General Information (202) 564-1399 or http://www.epa.gov/compliance/nepa/.

Weekly receipt of Environmental Impact Statements

Filed 10/17/2011 Through 10/21/2011.

Pursuant to 40 CFR 1506.9.

Notice

Section 309(a) of the Clean Air Act requires that EPA make public its comments on EISs issued by other Federal agencies. EPA's comment letters on EIS are available at: http://www.epa.gov/compliance/nepa/eisdata.html.

EIS No. 20110357, Draft EIS, BLM, NV, Phoenix Copper Leach Project, Proposed Construction and Operation of a New Copper Benfication Facility, Lander County, NV, Comment Period Ends: 12/12/2011, Contact: Dave Davis (775) 635-4000.

EIS No. 20110358, Draft EIS, USFS, ID, Mill Creek—Council Mountain Landscape Restoration Project, Proposed Landscape Restoration Treatment Activities on 51,975 Acres, Council Ranger District, Payette National Forest, Adams County, ID, Comment Period Ends: 12/12/2011, Contact: Steve Penny (208) 253-0164.

EIS No. 20110359, Final EIS, BLM, AZ, Northern Arizona Proposed Withdrawal Project, Proposed 20-Year Withdrawal of Approximately 1 Million Acres of Federal Mineral Estate, Coconino and Mohave Counties, AZ, Review Period Ends: 11/28/2011, Contact: Scott Florence (435) 688-3200.

EIS No. 20110360, Draft EIS, USFS, AK, Tonka Timber Sale Project, Proposed Timber Harvesting, Petersburg Ranger District, Tongass National Forest, Petersburg, AK, Comment Period Ends: 12/12/2011, Contact: Carey Case (907) 772-3871.

EIS No. 20110361, Draft EIS, BLM, 00, Programmatic—Solar Energy Development in Six Southwestern States, To Identifying and Prioritizing Specific Location Best Suited for Utility-Scale Solar Energy Development on Public Land, AZ, CA, NV, CO, UT and NM, Comment Period Ends: 01/27/2012, Contact: Shannon Stewart (202) 912-7219.

EIS No. 20110362, Final EIS, NOAA, 00, Generic—Annual Catch Limits/Accountability Measures Amendment for the Gulf of Mexico Fishery Management Council's Red Drum, Reef Fish, Shrimp, Coral and Coral Reefs, Fishery Management Plans, Implementing the National Standard 1 Guidelines, Review Period Ends: 11/28/2011, Contact: Roy E. Crabtree (727) 824-5305.

EIS No. 20110363, Final EIS, NOAA, 00, Amendment 2 to the Fishery Management Plan of Puerto Rico and the U.S. Virgin Islands and Amendment 5 to the Reef Fish Fishery Management Plan of Puerto Rico and the U.S. Virgin Islands, Implementation of Annual Catch Limits (ACLs) and Accountability Measures (AMs) for Reef Fish and Queen Conch in the U.S. Caribbean, Review Period Ends: 11/28/2011, Contact: Roy E. Crabtree (727) 824-5308.

EIS No. 20110364, Draft EIS, NRC, MI, Enrico Fermi Unit 3 Combined License (COL) Application, Construction and Operation of a Power Reactor, U.S. Corp of Engineer 10 and 404 Permits, NUREG-2105, Monroe County, MI, Comment Period Ends: 01/10/2012, Contact: Bruce Olson (301) 415-3731.

EIS No. 20110365, Final EIS, FHWA, UT, Provo Westside Connector Project, Improvements to Interstate 15/University Avenue/1860 South Interchange to 3110 West Street in Provo, UT, Review Period Ends: 11/28/2011, Contact: Edward Woolford (801) 955-3500.

EIS No. 20110366, Final EIS, USFS, 00, Nationwide Aerial Application of Fire Retardant Project, Proposing to Continue the Aerial Application of Fire on National Forest System Lands, Implementation, Review Period Ends: 11/28/2011, Contact: Glen Stein (202) 205-1588.

Amended Notices

EIS No. 20110355, Final EIS, FHWA, CA, Northwest Corridor Improvements, I-75/I-575 Construction, New Alternative, USACE Section 404 Permit, NPDES Permit, Cobb and Cherokee Counties, GA, Review Period Ends: 11/21/2011, Contact: Rodney N. Barry (404) 562-3630.

Revision to FR Notice Published 10/21/2011: Correction to the State from CA to GA.

Dated: October 25,2011.
Cliff Rader,
Acting Director, NEPA Compliance Division, Office of Federal Activities.

[FR Doc. 2011-27934 Filed 10-27-11; 8:45 am]

BILLING CODE 6560-50-P